DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service an agency delivering the U.S. Department of Agriculture (USDA) Rural Development Utilities Programs, invites comments on this information collection for which approval from the Office of Management and Budget (OMB) will be requested.

DATES: Comments on this notice must be received June 30, 2006.

FOR FURTHER INFORMATION CONTACT: Richard C. Annan, Director, Program Development and Regulatory Analysis, USDA Rural Development, 1400 Independence Ave., SW., STOP 1522, Room 5818—South Building, Washington, DC 20250-1522. Telephone: (202)720-0784. FAX: (202)720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that USDA Rural Development is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Richard C. Annan, Director, Program Development and Regulatory Analysis, USDA Rural Development, 1400 Independence Ave., SW., STOP 1522, Washington, DC 20250-1522. FAX: (202)720-8435.

Title: 7 CFR Part 1786—Prepayment of Guaranteed and Insured FFB Loans

OMB Control Number: 0572-0088.

Type of Request: Extension of a currently approved information collection.

Abstract: 7 CFR Part 1786 establishes policies and procedures mandated by legislation. This part deals with the prepayment of certain loans held by the Federal Financing Bank (FFB), a wholly-owned government instrumentality under the supervision of the Secretary of the Treasury, and guaranteed by USDA Rural Development.

This regulation sets forth policy and procedures implementing section 306(A) of the RE Act which permits an USDA Rural Development Utilities Programs financed electric or telephone system to prepay an FFB loan (or any loan advance thereunder) by paying the outstanding principal balance due on the loan (or advance).

Estimate of Burden: Public reporting burden for this collection of information is estimated to average 2.21 hours per response.

Respondents: Not-for-profits organizations; business or, other for-profit.

Estimated Number of Respondents: 5.

Estimated Number of Responses per Respondent: 1.

Estimated Total Annual Burden on Respondents: 11.05 hours.

Copies of this information collection can be obtained from Joyce McNeil, Program Development and Regulatory Analysis, at (202) 720-0812. FAX: (202) 720-8435.

All responses to this notice will be summarized and included in the request for OMB approval.

All comments will also become a matter of public record.

Dated: April 24, 2006.
James M. Andrew,
Administrator, Rural Utilities Service.

[FR Doc. E6-6525 Filed 4-28-06; 8:45 am]

BILLING CODE 3410-15-P